DEPARTMENT OF TRANSPORTATION

Federal Aviation Administration

14 CFR Part 39

[Docket No. FAA-2006-24793; Directorate Identifier 2006-NM-056-AD; Amendment 39-14764; AD 2006-19-07]

RIN 2120-AA64

Airworthiness Directives; Airbus Model A330, A340-200, and A340-300 Airplanes

AGENCY: Federal Aviation Administration (FAA), Department of Transportation (DOT).

ACTION: Final rule.

SUMMARY: The FAA is adopting a new airworthiness directive (AD) for certain Airbus Model A330, A340-200, and A340-300 airplanes. This AD requires replacing the attachment landing assemblies of certain blow-down panels of the wing leading edges with new, improved landing assemblies. This AD results from several reports of full or partial loss of certain blow-down panels of the wing leading edges during flight. We are issuing this AD to prevent damage to the airplane and hazards to persons or property on the ground.

DATES: This AD becomes effective October 24, 2006.

The Director of the Federal Register approved the incorporation by reference of certain publications listed in the AD as of October 24, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A330, A340-200, and A340-300 airplanes. That NPRM was published in the Federal Register on May 18, 2006 (71 FR 28819). That NPRM proposed to require replacing the attachment landing assemblies of certain blow-down panels of the wing leading edges with new, improved landing assemblies.

Comments

We provided the public the opportunity to participate in the development of this AD. We have considered the comments received.

Request To Revise Applicability To Reflect Secondary Service Bulletins

Airbus states that the European Aviation Safety Agency (EASA) airworthiness directive 2006-0048, dated February 16, 2006, is written to exclude airplanes modified in service in accordance with Airbus Service Bulletins A330-57-3084 and A330-57-3063, or A340-57-4092 and A340-57-4071 (these service bulletins introduced the replacements that were subsequently cited in the primary service bulletins—Airbus Service Bulletins A330-57-3091 and A340-57-4100, both dated October 25, 2005—and mandated by EASA airworthiness directive 2006-0048). Airbus therefore requests that we revise the NPRM to agree with the EASA airworthiness directive and exclude airplanes modified in service as described in the secondary service bulletins.

We partially agree. We acknowledge that airplanes which have been modified as described in the secondary service bulletins require no further work in accordance with this AD. However, we have not revised the applicability of the AD; rather, we have included a new paragraph (g) in the AD to state that replacements done in accordance with the secondary service bulletins are considered to be acceptable for compliance with the requirements of paragraph (f) of this AD. We have re-identified subsequent paragraphs of the AD accordingly.

Request To Revise Applicability To Reflect Primary Service Bulletins

Airbus further requests that we revise the applicability of the NPRM to exclude certain other airplanes. Airbus states that EASA airworthiness directive 2006-0048 excludes airplanes modified in service as described in Airbus Service Bulletin A330-57-3091 or A340-57-4100, both dated October 25, 2005, which are cited as the primary sources of service information for accomplishing the requirements of this AD. Airbus asserts that the AD should agree with the EASA airworthiness directive and exclude airplanes which have been modified in service as described in Airbus Service Bulletin A330-57-3091 or A340-57-4100.

We disagree. We have not excluded those airplanes in the applicability of this AD; rather, this AD includes a requirement to accomplish the actions specified in the primary service bulletins. This requirement will ensure that the actions described in the service bulletins and required by this AD are accomplished on all affected airplanes. Operators must continue to operate the airplanes in the configuration required by this AD unless an alternative method of compliance is approved in accordance with the procedures specified in paragraph (h) of this AD. We have not revised the AD in this regard.

Conclusion

We have carefully reviewed the available data, including the comments received, and determined that air safety and the public interest require adopting the AD with the changes described previously. We have determined that these changes will neither increase the economic burden on any operator nor increase the scope of the AD.

Costs of Compliance

The following table provides the estimated costs for U.S. operators of Model A330 airplanes to comply with the modifications required by this AD. The estimated labor rate is $80 per work hour.

Estimated Costs
Airplane group | Work hours | Parts | Cost per airplane | Number of U.S.-registered airplanes | Fleet cost
1, 2, 3, 4, 5 | 68 | $25,120 | $30,560 | 5 (group 2 only) | $152,800
6 | 11 | 2,480 | 3,360 | 22 | 73,920

Currently, there are no Model A340-200 or A340-300 airplanes on the U.S. Register. However, if an affected Model A340-200 or A340-300 airplane is imported and placed on the U.S. Register in the future, the estimated costs shown in the table above will apply to accomplish the required actions of this AD for that airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-19-07 Airbus: Amendment 39-14764. Docket No. FAA-2006-24793; Directorate Identifier 2006-NM-056-AD.

Effective Date

(a) This AD becomes effective October 24, 2006.

Affected ADs

(b) None.

Applicability

(c) This AD applies to Airbus Model A330, A340-200, and A340-300 airplanes, certificated in any category; all serial numbers; except for airplanes which have received both Airbus Modification 47249 and Airbus Modification 53383 in production.

Unsafe Condition

(d) This AD results from several reports of full or partial loss of certain blow-down panels of the wing leading edges during flight. We are issuing this AD to prevent damage to the airplane and hazards to persons or property on the ground.

Compliance

(e) You are responsible for having the actions required by this AD performed within the compliance times specified, unless the actions have already been done.

Replacement

(f) Within 56 months after the effective date of this AD, replace the landing assemblies of certain blow-down panels of the wing leading edges with new, improved landing assemblies; in accordance with the Accomplishment Instructions of Airbus Service Bulletin A330-57-3091 (for Model A330 airplanes) or Airbus Service Bulletin A340-57-4100 (for Model A340-200 and A340-300 airplanes), both dated October 25, 2005, as applicable.

Actions Previously Accomplished in Accordance With Alternative Service Information

(g) Actions done in accordance with Airbus Service Bulletins A330-57-3084 and A330-57-3063, or A340-57-4092 and A340-57-4071, at the revision levels specified in Table 1 of this AD, as applicable, are considered to be acceptable for compliance with the requirements of paragraph (f) of this AD. After the effective date of this AD, only Airbus Service Bulletin A330-57-3091 or A340-57-4100; both dated October 25, 2005; as applicable, may be used.

Table 1.—Alternative Service Information
Airbus Service Bulletin | Revision | Effective date
A330-57-3063 | 01 | July 23, 2004.
A330-57-3063 | Original | July 12, 2001.
A330-57-3084 | 01 | February 17, 2006.
A330-57-3084 | Original | December 14, 2004.
A340-57-4071 | 02 | September 10, 2004.
A340-57-4071 | 01 | July 23, 2004.
A340-57-4071 | Original | July 12, 2001.
A340-57-4092 | 01 | February 17, 2006.
A340-57-4092 | Original | December 14, 2004.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) The European Aviation Safety Agency airworthiness directive 2006-0048, dated February 16, 2006, also addresses the subject of this AD.

Material Incorporated by Reference

(j) You must use Airbus Service Bulletin A330-57-3091, dated October 25, 2005; or Airbus Service Bulletin A340-57-4100, dated October 25, 2005; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 7, 2006.
Kalene C. Yanamura,
Acting Manager, Transport Airplane Directorate, Aircraft Certification Service.

[FR Doc. E6-15330 Filed 9-18-06; 8:45 am]

BILLING CODE 4910-13-P